DEPARTMENT OF COMMERCE

National Oceanic and Atmospheric Administration

50 CFR Part 679

[I.D. 051500D ]

RIN 0648-AM72

Fisheries of the Exclusive Economic Zone Off Alaska; Western Alaska Community Development Quota Program

AGENCY: National Marine Fisheries Service (NMFS), National Oceanic and Atmospheric Administration (NOAA), Commerce.

ACTION: Notice of availability; request for comments.

SUMMARY: The North Pacific Fishery Management Council (Council) has submitted Amendment 66 to the Fishery Management Plan for the Groundfish Fishery of the Bering Sea and Aleutian Islands Area (FMP) to remove the allocation of squid to the Western Alaska Community Development Quota (CDQ) Program. The Council has recommended this amendment to prevent the incidental catch of squid in the pollock CDQ fisheries from preventing the CDQ groups from fully harvesting the pollock CDQ allocation required under the American Fisheries Act (AFA).

DATES: Comments on Amendment 66 must be submitted by July 31, 2000.

ADDRESSES: Comments may be mailed to Sue Salveson, Assistant Regional Administrator, Sustainable Fisheries Division, Alaska Region, NMFS, P.O. Box 21668, Juneau, AK 99802, Attn: Lori Gravel. Hand delivery or courier delivery of comments may be sent to the Federal Building, 709 West 9th Street, Juneau, AK. Comments will not be accepted if submitted via e-mail or the Internet.

Copies of Amendment 66 to the FMP and of the Environmental Assessment/Regulatory Impact Review/Initial Regulatory Flexibility Analysis prepared for this action are available from the Council, 605 West 4th Ave., Suite 306, Anchorage, AK 99501-2252, telephone 907-271-2809; from NMFS at the above address; or by calling the Alaska Region, NMFS, at 907-586-7228.

FOR FURTHER INFORMATION CONTACT: Sally Bibb, 907-586-7389, sally.bibb@noaa.gov.

SUPPLEMENTARY INFORMATION: The Magnuson-Stevens Fishery Conservation and Management Act (Magnuson-Stevens Act) requires that each Regional Fishery Management Council submit any FMP or FMP amendment it prepares to NMFS for review and approval, disapproval, or partial approval. The Magnuson-Stevens Act also requires that NMFS, upon receiving an FMP or amendment, immediately publish a notification in the Federal Register that the FMP or amendment is available for public review and comment. Therefore, NMFS solicits comments on the approval, disapproval, or partial approval of this amendment.

The Council adopted Amendment 66 at its June 1999 meeting. If approved by NMFS, this amendment would remove the allocation of 7.5 percent of the squid total allowable catch (TAC) to the CDQ Program. Currently, each CDQ group must manage its CDQ fisheries to ensure that its squid CDQ allocation is not exceeded. The pollock fishery takes squid as incidental catch. The potential exists that if a CDQ group were to catch its full squid allocation, it would be precluded from continuing to fish for pollock. This potential constraint on the pollock CDQ fisheries existed when the pollock CDQ allocation was 7.5 percent of the pollock TAC. The potential is more likely now that the pollock CDQ allocation has been increased to 10 percent of the TAC under the AFA. In passing the AFA, Congress manifested its intent that CDQ groups be able to harvest their full pollock allocations. Therefore, the Council is recommending removal of squid as a CDQ species.

NMFS solicits public comments on the amendment through July 31, 2000. A proposed rule that would implement the amendment may be published in the Federal Register for public comment following NMFS's evaluation under the Magnuson-Stevens Act procedures. Public comments on the proposed rule must be received by the end of the comment period on the amendment to be considered in the approval/disapproval decision on the amendment. All comments received by the end of the comment period on the amendment, whether specifically directed to the amendment or to the proposed rule, will be considered in the approval/disapproval decision; comments received after that date will not be considered in the approval/disapproval decision on the amendment. To be considered, comments must be received by close of business on the last day of the comment period specified in this notice of availability; that does not mean postmarked or otherwise transmitted by that date.

Dated: May 22, 2000.
Richard W. Surdi,
Acting Director, Office of Sustainable Fisheries, National Marine Fisheries Service.

[FR Doc. 00-13370 Filed 5-26-00; 8:45 am]

BILLING CODE 3510-22-F